INSTITUTE OF PEACE

Announcement of the Spring 2002 Solicited Grant Competition Grant Program

AGENCY: United States Institute of Peace.

ACTION: Notice.

SUMMARY: The Agency announces its Upcoming Spring 2002 Solicited Grant Competition. The Solicited Grant competition is restricted to projects that fit specific themes and topics identified in advance by the Institute of Peace.

The themes and topics for the Spring 2002 Solicited competition are:

• Solicitation A: Strategic Nonviolent Conflict

• Solicitation B: The Middle East and South Asia

• Solicitation C: Training

Deadline for Receipt of Applications: March 1, 2002.

Notification of Awards: Late September 2002.

Applications Material: Available upon request.

ADDRESSES: For more information and an application package: United States Institute of Peace Grant Program, Solicited Grants, 1200 17th Street, NW., Suite 200, Washington, DC 20036-3011, (202) 429-3842 (phone), (202) 429-6063 (fax), (202) 457-1719 (TTY), E-mail: grant_program@usip.org.

Application material available on-line starting October 31: www.usip.org/grant.html.

FOR FURTHER INFORMATION CONTACT: The Grant Program, Phone (202) 429-3842.

Dated: October 23, 2001.
Bernice J. Carney,
Director, Office of Administration.

[FR Doc. 01-27030 Filed 10-25-01; 8:45 am]

BILLING CODE 6820-AR-M